DEPARTMENT OF COMMERCE

National Oceanic and Atmospheric Administration

[I.D. 080503D]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Highly Migratory Species (HMS) Advisory Panel (AP) and a joint meeting of the HMS AP and the Billfish AP.

DATES: The HMS AP meeting is scheduled to begin at 2 p.m. on Tuesday, August 26, 2003. The joint meeting of the HMS AP and the Billfish AP is scheduled to begin at 8:30 a.m. on Wednesday, August 27, 2003, and will conclude by 3 p.m.

ADDRESSES: The meetings will be held at the at the New Orleans Airport Hilton, 901 Airline Highway, Kenner, LA; telephone: 504-469-5000.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The HMS AP will convene to receive a presentation from NMFS on bycatch of sharks in the Gulf menhaden purse seine fishery, and will review Draft Amendment 1 to the Fishery Management Plan (FMP) for Atlantic Tuna, Swordfish, and Sharks (HMS Amendment 1), which is being developed by the HMS Division of NMFS.

The HMS AP and Billfish AP will jointly review possible alternatives to be included in an environmental impact statement (EIS) for proposed Amendment 2 to the FMP for Atlantic Tuna, Swordfish, and Sharks (HMS Amendment 2), and proposed Amendment 2 to the FMP for Atlantic Billfish (Billfish Amendment 2), which are also being developed by the NMFS HMS Division.

The APs will also review several draft recommendations made to the International Commission for the Conservation of Atlantic Tunas (ICCAT) concerning integrated monitoring and control measures in the ICCAT Convention Area. These draft recommendations, which were made by the ICCAT Working Group to Develop Integrated Monitoring and Control Measures, held in Madeira, Portugal May 26-28, 2003, include a recommendation to require that all vessels fishing in the ICCAT Convention Area be authorized by licenses or permits; a recommendation that a vessel monitoring system (VMS) be required on fishing vessels exceeding 20 meters (65 feet) in length; and a recommendation that would require the use of fishing logbooks for all fisheries. This would include commercial and recreational.

HMS Draft Amendment 1 includes alternatives to revise the large coastal shark rebuilding plan; outline a procedure to prevent overfishing of finetooth sharks; revise commercial quota levels; implement regional and trimester quotas; eliminate a commercial minimum size; revise recreational retention and size limits; establish handline and rod and reel as the only authorized gears in the recreational shark fishery; remove deepwater and other sharks from the management unit and continue data collection only; retain the existing regulations on the prohibited species group but establish criteria by which to add/remove species to/from the group; allow strikenet gear only in the shark gillnet fishery; implement a time/area closure for bottom longline fishing in the mid-Atlantic region from January through July to protect sandbar and dusky shark nursery and pupping areas; require vessel monitoring systems on shark bottom longline and gillnet vessels to enforce time/area closures; require the use of non-stainless steel hooks and the possession of line clippers, dipnets, and dehooking devices on vessels with shark bottom longline gear; require bottom longline vessels to move 1 nautical mile after an interaction with a protected species; update and revise essential fish habitat identifications for species whose stock status has changed; provide criteria to increase or decrease essential fish habitat for individual species based on special needs; and develop a separate display permitting system for sharks apart from research or exempted fishing permits.

The EIS for proposed HMS Amendment 2 and proposed Billfish Amendment 2 is intended to address issues regarding quota allocation of Atlantic bluefin tuna (BFT), swordfish, and sharks among and within domestic fishing categories, examine management alternatives to improve and streamline the current HMS limited access permit program, conduct a five year review of HMS essential fish habitat (EFH) identifications, and address exempted fishing and scientific research permitting issues consistent with rebuilding plans, the Magnuson-Stevens Fishery Conservation and Management Act (Magnuson-Stevens Act), Atlantic Tunas Convention Act (ATCA), and other relevant Federal laws. NMFS is requesting comments on the above measures including, but not limited to, HMS quota allocations, permitting, revisions to the limited access management program, and updates to EFH information.

The HMS and Billfish APs will provide their advice on the above actions to the Council. The Council will consider the advice from the APs and will develop its recommendations during the September 8-11, 2003, Council meeting in Baton Rouge, LA. The Council's recommendations and the recommendations of the APs will be submitted to the NMFS HMS Division and to ICCAT as appropriate during the public comment periods for the respective actions.

Although other non-emergency issues not on the agendas may come before the APs for discussion, in accordance with the Magnuson-Stevens Fishery Conservation and Management Act, those issues may not be the subject of formal action during these meetings. Actions of the APs will be restricted to those issues specifically identified in the agendas and any issues arising after publication of this notice that require emergency action under section 305(c) of the Magnuson-Stevens Act, provided the public has been notified of the Council's intent to take action to address the emergency.Copies of the agenda can be obtained by calling 813-228-2815.

Special Accommodations

This meeting is physically accessible to people with disabilities. Requests for sign language interpretation or other auxiliary aids should be directed to Anne Alford at the Council (see ADDRESSES) by August 19, 2003.

Dated: August 6, 2003.
Richard W. Surdi,
Acting Director, Office of Sustainable Fisheries, National Marine Fisheries Service.

[FR Doc. 03-20511 Filed 8-11-03; 8:45 am]

BILLING CODE 3510-22-S